DEPARTMENT OF STATE

[Public Notice 6541]

Advisory Committee on International Economic Policy; Notice of Committee Renewal

Renewal of Advisory Committee. The Department of State has renewed the Charter of the Advisory Committee on International Economic Policy. The Committee serves in a solely advisory capacity concerning major issues and problems in international economic policy. The Committee provides information and advice on the effective integration of economic interests into overall foreign policy and on the Department of State's role in advancing American commercial interests in a competitive global economy. The Committee also appraises the role and limits of international economic institutions and advises on the formulation of U.S. economic policy and positions.

This Committee includes representatives of American organizations and institutions having an interest in international economic policy, including representatives of American business, labor unions, public interest groups, and trade and professional associations. The Committee meets at least annually to advise the Department on the full range of international economic policies and issues.

For further information, please call Nancy Smith-Nissley, Senior Coordinator, Office of Economic Policy Analysis and Public Diplomacy, Economic, Energy and Business Affairs Bureau, U.S. Department of State, at (202) 647-1682.

March 2, 2009.
Sandra Clark,
Director, Office of Economic Policy Analysis and Public Diplomacy, Bureau of Economic, Energy and Business Affairs, Department of State.

[FR Doc. E9-5072 Filed 3-9-09; 8:45 am]

BILLING CODE 4710-07-P